FEDERAL ELECTION COMMISSION

11 CFR Part 102

[Notice 2019-09]

Point of Entry for All Campaign Finance Reports; Correction

AGENCY: Federal Election Commission.

ACTION: Correcting amendment.

SUMMARY: On May 2, 2019, the Federal Election Commission revised Commission regulations regarding the point of entry for filing campaign finance reports. That document inadvertently contained technical language having the effect of removing a portion of one of the regulations. This document corrects the final regulations.

DATES: This correcting amendment is effective July 22, 2019, and is applicable as of May 2, 2019.

FOR FURTHER INFORMATION CONTACT: Ms. Joanna S. Waldstreicher, Acting Assistant General Counsel, or Ms. Cheryl A. Hemsley, Attorney, (202) 694-1650 or (800) 424-9530.

SUPPLEMENTARY INFORMATION: On May 2, 2019, the Federal Election Commission published an interim final rule implementing the Congressional requirement that all reports, designations, and notices mandated by the Federal Election Campaign Act must be filed with the Commission. See Point of Entry for All Campaign Finance Reports, 84 FR 18697 (May 2, 2019). The amendments to the Code of Federal Regulations (“CFR”) were generally intended to remove language requiring filing with the Secretary of the Senate, as well as cross-references to such sections. Erroneous technical instructions for amending 11 CFR 102.2(a)(1) to remove such a cross-reference (see id. at 18699) inadvertently caused the removal from the CFR of part of that paragraph. This document corrects that error, reinstating the portion of 11 CFR 102.2(a)(1) that was not intended to be removed.

List of Subjects in 11 CFR Part 102

Political committees and parties, Reporting and recordkeeping requirements.

For the reasons set out in the preamble, the Federal Election Commission amends 11 CFR chapter I, as follows:

PART 102—REGISTRATION, ORGANIZATION, AND RECORDKEEPING BY POLITICAL COMMITTEES (52 U.S.C. 30103)

1. The authority citation for part 102 continues to read as follows:

Authority: 52 U.S.C. 30102, 30103, 30104(a)(11), 30111(a)(8), and 30120.

2. Amend § 102.2 by revising the section heading and paragraph (a)(1) to read as follows:

§ 102.2 Statement of organization: Forms and committee identification number (52 U.S.C. 30102(g), 30103(b), (c)).

(a) Forms. (1) The Statement of Organization shall be filed with the Commission on Federal Election Commission Form 1. The Statement shall be signed by the treasurer and shall include the following information:

(i) The name, address, and type of committee;

(ii) The name, address, relationship, and type of any connected organization or affiliated committee in accordance with paragraph (b) of this section;

(iii) The name, address, and committee position of the custodian of books and accounts of the committee;

(iv) The name and address of the treasurer of the committee;

(v) If the committee is authorized by a candidate, the name, office sought (including State and Congressional district, when applicable) and party affiliation of the candidate; and the address to which communications should be sent;

(vi) A listing of all banks, safe deposit boxes, or other depositories used by the committee;

(vii) The internet address of the committee's official website, if such a website exists. If the committee is required to file electronically under 11 CFR 104.18, its electronic mail address, if such an address exists; and

(viii) If the committee is a principal campaign committee of a candidate for the Senate or the House of Representatives, the principal campaign committee's electronic mail address.

* * * * *

On behalf of the Commission.
Dated: July 16, 2019.
Ellen L. Weintraub,
Chair, Federal Election Commission.

[FR Doc. 2019-15479 Filed 7-19-19; 8:45 am]

BILLING CODE P